DEPARTMENT OF ENERGY

Federal Energy Regulatory Commission

[Docket No. EL02-126-000]

City of Corona, Complainant, v. Southern California Edison Company, Respondent; Notice of Complaint

September 23, 2002.

Take notice that on September 16, 2002, the City of Corona, California (Corona or the City), at the request of the Commission's Hotline staff, tendered for filing modifications to its previously-filed complaint (the Complaint) against Southern California Edison. On September 11, 2002, Corona filed the Complaint, which references comments made by the Commission's Hotline staff. The Hotline staff has subsequently requested the modifications to confirm, clarify, and expand upon the Hotline staff's role in the instant matter and previous statements made to the City. Numbered paragraphs 4, 5, 40, and 64 should replace the corresponding paragraphs in the Complaint.

A copy of the filing was served upon the Parties.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the modified complaint and all comments, interventions or protests must be filed on or before October 7, 2002. This filing is available for review at the Commission in the Public Reference Room or may be viewed on the Commission's Web site at http://www.ferc.gov using the “FERRIS” link. Enter the docket number excluding the last three digits in the docket number field to access the document. For Assistance, call (202) 502-8222 or for TTY, (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-24693 Filed 9-27-02; 8:45 am]

BILLING CODE 6717-01-P